Proclamation 9615 of May 19, 2017

Armed Forces Day, 2017

By the President of the United States of America

A Proclamation

For almost 70 years, our Nation has set aside one day to recognize the great debt we owe to the men and women who serve in the Army, Navy, Air Force, Marine Corps, and Coast Guard. On Armed Forces Day, we salute the bravery of those who defend our Nation's peace and security. Their service defends for Americans the freedom that all people deserve.

This year, we also reflect on the 100th anniversary of our Nation's entry into World War I. More than 4.7 million Americans would ultimately serve in the United States Armed Forces during that terrible conflict. Their sacrifice has not been forgotten. One hundred years later, we face different threats and challenges. But our safety and security, and the defense of our way of life, rest in the same able hands of our Armed Forces.

Because our Armed Forces must constantly adapt to new threats, our Nation is committed to ensuring they have the tools and resources they need as they train, deploy, and fight in defense of our country and defending our values. This is why my budget calls for a $54 billion increase in national defense spending.

Today, we salute our Soldiers, Sailors, Airmen, Marines, and Coast Guardsmen for their dedication as they carry out the extraordinary duty of protecting our country. We also pay tribute to the families who serve alongside them, lending their steadfast love and support.

NOW, THEREFORE, I, DONALD J. TRUMP, President of the United States of America, and Commander in Chief of the Armed Forces of the United States, continuing the tradition of my predecessors in office, do hereby proclaim the third Saturday of each May as Armed Forces Day.

I invite the Governors of the States and Territories and other areas subject to the jurisdiction of the United States to provide for the observance of Armed Forces Day within their jurisdiction each year in an appropriate manner designed to increase public understanding and appreciation of the Armed Forces of the United States. I also invite veterans, civic, and other organizations to join in the observance of Armed Forces Day each year.

Finally, I call upon all Americans to display the flag of the United States at their homes and businesses on Armed Forces Day, and I urge citizens to learn more about military service by attending and participating in the local observances of the day.

Proclamation 9452 of May 20, 2016, is hereby superseded.

IN WITNESS WHEREOF, I have hereunto set my hand this nineteenth day of May, in the year of our Lord two thousand seventeen, and of the Independence of the United States of America the two hundred and forty-first.

[FR Doc. 2017-10850

Filed 5-23-17; 11:15 am]

Billing code 3295-F7-P